DEPARTMENT OF ENERGY

Federal Energy Regulatory Commission

[Docket No. RP11-1538-000]

National Gas Supply Association, American Forest and Paper Association, Inc., American Public Gas Association, Independent Petroleum Association of America, Process Gas Consumers Group; Notice of Petition

November 19, 2010.

Take notice that on November 17, 2010, the Natural Gas Supply Association, American Forest and Paper Association, Inc., American Public Gas Association, Independent Petroleum Association of America, and Process Gas Consumers Group (collectively, the Associations), filed in Docket No. RP11-1538-000, a petition pursuant to Rule 207(a)(5) of the Commission's Rules of Practice and Procedure, requesting that the Commission exercise its authority under section 5 of the Natural Gas Act to enforce its policy regarding pipeline reservation charge crediting during outages and order pipelines to amend their tariffs in accordance with Commission policy.

Specifically, the Associations ask the Commission to ensure that: (1) All pipelines incorporate into their tariffs an acceptable sharing mechanism that allows for partial reservation charge credits during outages that are due to unexpected and uncontrollable force majeure events, and (2) all pipeline tariffs require full reservation charge credits to shippers during outages that are not due to unexpected and uncontrollable force majeure events.

Any person desiring to intervene or to protest in this proceeding must file in accordance with Rules 211 and 214 of the Commission's Rules of Practice and Procedure (18 CFR 385.211 and 385.214) on or before 5 p.m. Eastern time on the specified comment date. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Comment Date: 5 p.m. Eastern Time on Wednesday, December 8, 2010.

Kimberly D. Bose,
Secretary.

[FR Doc. 2010-29859 Filed 11-26-10; 8:45 am]

BILLING CODE 6717-01-P